OFFICE OF THE UNITED STATES TRADE REPRESENTATIVE

Free Trade Agreements; Invitation for Applications for Inclusion on U.S.-Chile FTA Dispute Settlement Rosters

AGENCY: Office of the United States Trade Representative.

ACTION: Invitation for Applications.

SUMMARY: The United States-Chile Free Trade Agreement (Chile FTA) requires the establishment of four rosters of individuals that would be available to serve as panelists in dispute settlement proceedings under the Agreement. A general roster is required to be established under Chapter Twenty-Two: Dispute Settlement. Chapter Twelve on Financial Services, Chapter Eighteen on Labor, and Chapter Nineteen on Environment require the establishment of specific rosters requiring financial services, labor, and environment expertise, respectively.

DATES: Applications should be received no later than December 30, 2005.

ADDRESSES: Comments should be submitted (i) electronically, to FR0602@ustr.eop.gov, Attn: “U.S.-Chile FTA Panelist Applications” in the subject line, or (ii) by fax to Sandy McKinzy at (202) 395-3640.

FOR FURTHER INFORMATION CONTACT: For information regarding the form of the application, contact Sandy McKinzy, Litigation Assistant, USTR Office of Monitoring and Enforcement, at (202) 395-3582. For other inquiries, contact María L. Pagán, Associate General Counsel, at (202) 395-7305.

SUPPLEMENTARY INFORMATION:

Dispute Settlement Mechanism of U.S.-Chile Free Trade Agreement

The Chile FTA sets out detailed procedures for the resolution of disputes over compliance with the obligations set out in the agreement. Dispute settlement involves three stages: (1) Lower level consultations between the Parties to try to arrive at a mutually satisfactory resolution of the matter; (2) cabinet-level consultations; and, (3) resort to a neutral panel to make a determination as to whether a Party is in compliance with its obligations under the agreement. The panel is composed of three individuals chosen by the Parties.

The Chile FTA requires the establishment of a general dispute settlement roster from which panelists shall normally be selected. The roster must be comprised of at least 20 individuals, at least six of whom should be non-nationals of either Party. Once established, the roster remains in effect for a minimum of three years. See Chile FTA, Article 22.7. The Chile FTA also requires the establishment of three additional rosters, one each for disputes under the Financial Services Chapter (Chapter Twelve), the Labor Chapter (Chapter Eighteen), and the Environment Chapter (Chapter Nineteen). The financial services roster must be comprised of up to 10 individuals, up to four of whom must be non-nationals of either Party. See Chile FTA, Article 12.17. The labor roster must be comprised of up to 12 individuals, four of whom must be non-nationals of either Party. See Chile FTA, Article 18.7. The environment roster must be comprised of at least 12 individuals, four of whom must be non-nationals of either Party. See Chile FTA, Article 19.7.

Upon each request for establishment of a panel, potential panelists will be requested to complete a disclosure form, which will be used to identify possible conflicts of interest or appearances thereof. The disclosure form requests information regarding financial interests and affiliations, including information regarding the identity of clients of the potential panelist and, if applicable, clients of the potential panelist's firm.

The text of the Chile FTA can be found through the Office of the U.S. Trade Representative Web site (www.ustr.gov/Trade_ Agreements/Section_Index.html).

Criteria for Eligibility for Qualification as Panelist

To qualify as a panelist for the general roster an individual must: (1) Have expertise or experience in law, international trade, other matters covered by the Agreement, or the resolution of disputes arising under international trade agreements; (2) be objective, reliable, and possess sound judgment; (3) be independent of, and not be affiliated with or take instructions from any Party; and (4) comply with a code of conduct. The United States seeks at least 10 individuals, at least three of whom must be non-nationals of the United States or Chile.

To qualify as a panelist for the financial services roster an individual must have expertise or experience in financial services law or practice, which may include the regulation of financial institutions, and meet the qualifications set out in (2) through (4) above. The United States seeks at least five individuals, up to two of whom should be non-nationals of the United States or Chile.

To qualify as a panelist for the labor roster an individual must have expertise or experience in labor law or its enforcement, or in the resolution of disputes arising under international agreements, and meet the qualifications set out in (2) through (4) above. The United States seeks six individuals, two of whom must be non-nationals of the United States or Chile.

To qualify as a panelist for the environment roster an individual must have expertise or experience in environmental law or its enforcement, international trade, or the resolution of disputes arising under international trade agreements, and meet the qualifications set out in (2) through (4) above. The United States seeks at least six individuals, at least two of whom must be non-nationals of the United States or Chile.

Procedures for Selection of Roster Members

An interagency committee chaired by USTR prepares a preliminary list of candidates eligible for inclusion on the various rosters and lists. After consultation with the Senate Committee on Finance and the House Committee on Ways and Means, USTR selects the final list of individuals chosen by the United States for inclusion on the rosters and lists.

Applications

Eligible individuals who wish to be considered for the Chile FTA rosters are invited to submit applications. Persons submitting applications may either send one copy by fax to Sandy McKinzy at (202) 395-3640, or transmit a copy electronically to FR0602@ustr.eop.gov, with “Chile FTA Panelist Application” in the subject line. USTR encourages the submission of documents in Adobe PDF format, as attachments to an electronic mail. Interested persons who make submissions by electronic mail should not provide separate cover letters; information that might appear in a cover letter should be included in the submission itself. Similarly, to the extent possible, any attachments to the submission should be included in the same file as the submission itself, and not as separate files.

Applications must be typewritten, and should be headed “Application for Consideration as a Chile FTA Panelist.” Applicants must specify for which of the four rosters they wish to be considered: General, Financial Services, Labor, or Environment. Applicants may specify more than one roster. Applications should include the following information, and each section of the application should be numbered as indicated:

1. Name of the applicant.

2. Business address, telephone number, fax number, and e-mail address.

3. Citizenship(s).

4. Current employment, including title, description of responsibility, and name and address of employer.

5. Relevant education and professional training.

6. Spanish language fluency, written and spoken.

7. Post-education employment history, including the dates and addresses of each prior position and a summary of responsibilities.

8. Relevant professional affiliations and certifications, including, if any, current bar memberships in good standing.

9. A list and copies of publications, testimony, and speeches, if any, concerning the relevant area of expertise. Judges or former judges should list relevant judicial decisions. Only one copy of publications, testimony, speeches, and decisions need be submitted.

10. A list of international trade proceedings or domestic proceedings relating to international trade matters in which the applicant has provided advice to a party or otherwise participated.

11. Summary of any current and past employment by, or consulting or other work for, the Government of the United States or for the Government of Chile.

12. The names and nationalities of all foreign principals for whom the applicant is currently or has previously been registered pursuant to the Foreign Agents Registration Act, 22 U.S.C. 611 et seq., and the dates of all registration periods.

13. A short statement of qualifications and availability for service on the FTA dispute settlement panels, including information relevant to the applicant's familiarity with international trade law and relevant area(s) for the roster(s) for which the applicant seeks to be considered, and willingness and ability to make time commitments necessary for service on panels.

14. On a separate page, the names, addresses, telephone and fax numbers of three individuals willing to provide information concerning the applicant's qualifications for service, including the applicant's character, reputation, reliability, judgment, and familiarity with the relevant area of expertise.

Public Disclosure

Applications normally will not be subject to public disclosure. Applications may be shared with other agencies, the Ways and Means Committee of the House of Representatives, the Finance Committee of the Senate, and the Government of Chile for their consideration in determining whether to appoint persons to the rosters.

False Statements

False statements by applicants regarding their personal or professional qualifications, or financial or other relevant interests that bear on the applicants' suitability for placement on the roster or appointment to a panel are subject to criminal sanctions under 18 U.S.C. 1001.

Paperwork Reduction Act

This notice contains a collection of information provision subject to the Paperwork Reduction Act (“PRA”) that has been approved by the Office of Management and Budget (“OMB”). Notwithstanding any other provision of law, no person is required to respond to nor shall a person be subject to a penalty for failure to comply with a collection of information subject to the requirements of the PRA unless that collection of information displays a currently valid OMB number. This notice's collection of information burden is only for those persons who wish voluntarily to apply for consideration as a possible Chile FTA panelist. It is expected that the collection of information burden will be under 3 hours. This collection of information contains no annual reporting or recordkeeping burden. This collection of information was approved by OMB under OMB Control Number 0350-0013. Please send comments regarding the collection of information burden or any other aspect of the information collection to USTR at the above e-mail address or fax number.

Privacy Act

The following statements are made in accordance with the Privacy Act of 1974, as amended (5 U.S.C. 552a). Provision of the information requested above is voluntary; however, failure to provide the information will preclude your consideration as a candidate to be a Chile FTA panelist. The information provided is needed, and will be used by USTR, other federal government trade policy officials concerned with dispute settlement under the Chile FTA, and officials of the Government of Chile to select well-qualified individuals to serve as panelists.

Daniel E. Brinza,
Assistant United States Trade Representative for Monitoring and Enforcement.

[FR Doc. E5-7028 Filed 12-7-05; 8:45 am]

BILLING CODE 3190-W6-P